DEPARTMENT OF ENERGY

[GDO Docket No. EA-48-O]

Application To Amend Export Authorization; El Paso Electric Company

AGENCY: Grid Deployment Office, Department of Energy.

ACTION: Notice of application.

SUMMARY: El Paso Electric Company (EPE or Applicant) has applied to amend its authorization to transmit electric energy from the United States to Mexico pursuant to the Federal Power Act to reflect a change in counterparty.

DATES: Comments, protests, or motions to intervene must be submitted on or before July 31, 2024.

ADDRESSES: Comments, protests, motions to intervene, or requests for more information should be addressed by electronic mail to Electricity.Exports@hq.doe.gov.

FOR FURTHER INFORMATION CONTACT: Brett Thompson, (202) 288-2028, Electricity.Exports@hq.doe.gov.

SUPPLEMENTARY INFORMATION: The United States Department of Energy (DOE) regulates electricity exports from the United States to foreign countries in accordance with section 202(e) of the Federal Power Act (FPA) (16 U.S.C. 824a(e)) and regulations thereunder (10 CFR 205.300 et seq.). Sections 301(b) and 402(f) of the DOE Organization Act (42 U.S.C. 7151(b) and 7172(f)) transferred this regulatory authority, previously exercised by the now-defunct Federal Power Commission, to DOE.

Section 202(e) of the FPA provides that an entity which seeks to export electricity must obtain an order from DOE authorizing that export (16 U.S.C. 824a(e)). On April 10, 2023, the authority to issue such orders was delegated to the DOE's Grid Deployment Office (GDO) by Delegation Order No. S1-DEL-S3-2023 and Redelegation Order No. S3-DEL-GD1-2023.

On April 16, 1992, DOE issued Order No. EA-48-I authorizing EPE to export electric energy from the United States to Comisión Federal de Electricidad (CFE) in Mexico. Most recently, this export authorization was temporarily amended by Order No. EA-48-N on February 25, 1998. On May 1, 2024, EPE filed an application with DOE (App. or Application) requesting to amend its export authorization to reflect a change in counterparty from CFE to the Centro Nacional de Control de Energía (CENACE). App. at 2.

According to the Application, EPE and CFE entered into an Interchange Agreement (Enabling Contract) to “govern the exchange of power between the two countries.” Id. EPE states that “reforms in Mexico have resulted in CFE no longer being responsible for energy transactions with EPE pursuant to the Enabling Contract. Rather, [CENACE] now operates [Mexico's] wholesale electricity market, has operational control of the national electric system, and establishes energy imports and exports for reliability and emergency situations.” Id. EPE states that the Enabling Contract was assigned from CFE to CENACE effective April 16, 2024. Id. EPE requests that DOE amend its export authorization to reflect CENACE as the counterparty rather than CFE and confirm that the export authorization will remain applicable to the Enabling Contract now that it has been assigned to CENACE. Id.

Procedural Matters: Any person desiring to be heard in this proceeding should file a comment or protest to the Application at Electricity.Exports@hq.doe.gov. Protests should be filed in accordance with Rule 211 of Federal Energy Regulatory Commission's (FERC's) Rules of Practice and Procedure (18 CFR 385.211). Any person desiring to become a party to this proceeding should file a motion to intervene at Electricity.Exports@ hq.doe.gov in accordance with FERC Rule 214 (18 CFR 385.214).

Comments and other filings concerning El Paso Electric Company's Application should be clearly marked with GDO Docket No. EA-48-O. Additional copies are to be provided directly to Abe Gonzalez, El Paso Electric, P.O. Box 982, El Paso, Texas 79960, abe.gonzalez@epelectric.com.

A final decision will be made on the requested authorization after the environmental impacts have been evaluated pursuant to DOE's National Environmental Policy Act Implementing Procedures (10 CFR part 1021) and after DOE evaluates whether the proposed action will have an adverse impact on the sufficiency of supply or reliability of the United States electric power supply system.

Copies of this Application will be made available, upon request, by accessing the program website at https://www.energy.gov/gdo/pending-applications-0 or by emailing Electricity.Exports@hq.doe.gov.

Signing Authority: This document of the Department of Energy was signed on June 24, 2024, by Maria Robinson, Director, Grid Deployment Office, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on June 26, 2024.
Treena V. Garrett,
Federal Register Liaison Officer, U.S. Department of Energy.

[FR Doc. 2024-14418 Filed 6-28-24; 8:45 am]

BILLING CODE 6450-01-P